DEPARTMENT OF THE INTERIOR

Geological Survey

[GX17EE000101000; OMB Control Number 1028-0110]

Agency Information Collection Activities; Submission to the Office of Management and Budget for Review and Approval; International Organization for Standardization (ISO) Geospatial Metadata Editors Registry

AGENCY: U.S. Geological Survey, Interior.

ACTION: Notice of information collection.

SUMMARY: In accordance with the Paperwork Reduction Act of 1995, the USGS is proposing to renew an information collection.

DATES: Interested persons are invited to submit comments on or before March 2, 2018.

ADDRESSES: Send written comments on this information collection request (ICR) to the Office of Management and Budget's Desk Officer for the Department of the Interior by email at OIRA_Submission@omb.eop.gov; or via facsimile to (202) 395-5806. Please provide a copy of your comments to U.S.G.S., Information Collections Officer, 12201 Sunrise Valley Drive, MS 159, Reston, VA 20192; or by email to gs-info_collections@usgs.gov. Please reference `Information Collection 1028-0110, ISO Geospatial Metadata Editors Registry' in the subject line of your comments.

FOR FURTHER INFORMATION CONTACT: Lorna Schmid, Federal Geographic Data Committee Office of the Secretariat, USGS, Mail Stop 509, 12201 Sunrise Valley Dr., Reston, VA 20192 (mail); 703-648-6834 (phone); or lorna@usgs.gov (email). You may also view the ICR at http://www.reginfo.gov/public/do/PRAMain.

SUPPLEMENTARY INFORMATION: We, the U.S.G.S., in accordance with the Paperwork Reduction Act of 1995, provide the general public and other Federal agencies with an opportunity to comment on proposed, revised, and continuing collections of information. This helps us assess the impact of our information collection requirements and minimize the public's reporting burden. It also helps the public understand our information collection requirements and provide the requested data in the desired format.

A Federal Register notice with a 60-day public comment period soliciting comments on this collection of information was published on November 21, 2017 (82 FR 55391). No comments were received.

We are again soliciting comments on the proposed ICR that is described below. We are especially interested in public comment addressing the following issues: (1) Is the collection necessary to the proper functions of the U.S.G.S.; (2) will this information be processed and used in a timely manner; (3) is the estimate of burden accurate; (4) how might the U.S.G.S. enhance the quality, utility, and clarity of the information to be collected; and (5) how might the U.S.G.S. minimize the burden of this collection on the respondents, including through the use of information technology.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: As National Spatial Data Infrastructure (NSDI) stakeholders move forward with the implementation of the International Organization for Standardization's (ISO) 191** series of geospatial metadata standards, there is increasing demand for information about applications/editors that can be used to create ISO compliant metadata records. The USGS, through the Federal Geographic Data Committee (FGDC) Office of the Secretariat (www.fgdc.gov), proposes development of an online registration system for developers of ISO Geospatial Metadata Editors to voluntarily describe their metadata tools. Developers will be asked to include information such as features of the editor, its functionality, supported standards, and point of contact information through a login-based, online form. The FGDC Metadata Working Group (MWG) (https://www.fgdc.gov/organization/working-groups-subcommittees/mwg/index_html), whose membership represents Federal, State, Local and Tribal governments and the Private Sector, has requested the development of the registry as a useful tool to learn about available ISO Geospatial Metadata Editors. Because the information about the editors may be of interest or utility to others implementing ISO geospatial metadata standards, the FGDC will make the information collected available on the Web in the form of a simple registry-type database. FGDC MWG members as well as non FGDC MWG members including geospatial metadata implementers from private sector, academia, all forms of government, and the general public, will have read-only access to the editor information published in the registry.

Title: ISO Geospatial Metadata Editors Registry.

OMB Control Number: 1028-0110.

Form Number: Not applicable.

Type of Request: Renewal of existing information collection.

Affected Public: Federal, State, Local and Tribal governments, Private Sector, and others involved in the development of ISO geospatial metadata.

Respondent's Obligation: None. Participation is voluntary.

Frequency of Collection: Following its initial collection from editor developers, the information will be reviewed at least annually. As part of the annual review, all editor developers listed in the registry will be contacted and requested to update their information, if needed, via the login-based online form. Additionally, all NSDI stakeholders will be reminded via Web posting at the FGDC website (www.fgdc.gov) and community-of-practice networking that new editors may be added to the registry.

Estimated Total Number of Annual Responses: Approximately 5.

Estimated Time per Response: We estimate that it will take one hour per person to document a single editor for inclusion in the registry. In future years, review of editor information to ensure currency or identification of new editors is expected to require de minimis effort.

Estimated Annual Burden Hours: 5 hours.

Estimated Reporting and Recordkeeping “Non-Hour Cost” Burden: There are no “non-hour cost” burdens associated with this IC.

An agency may not conduct or sponsor and a person is not required to respond to a collection of information unless it displays a currently valid OMB control number.

The authorities for this action are the Paperwork Reduction Act of 1995 (44 U.S.C. 3501, et seq.).

Kenneth M. Shaffer,
Deputy Director, Federal Geographic Data, Committee Office of the Secretariat, U.S. Geological Survey.

[FR Doc. 2018-01856 Filed 1-30-18; 8:45 am]

BILLING CODE 4338-11-P